ENVIRONMENTAL PROTECTION AGENCY

40 CFR Parts 704, 720, 721, and 723

[EPA-HQ-OPPT-2007-0392; FRL-8360-7]

RIN 2070-AJ21

Proposed Clarification for Chemical Identification Describing Activated Phosphors for TSCA Inventory Purposes; Reopening of Comment Period

AGENCY: Environmental Protection Agency (EPA).

ACTION: Proposed clarification; reopening of comment period.

SUMMARY: EPA issued a document in the Federal Register of January 16, 2008, concerning chemical identification of activated phosphors for Toxic Substances Control Act (TSCA) Inventory purposes. EPA received a request to reopen the comment period to provide more time to prepare comments. EPA is reopening the comment period for 30 days, allowing additional comments to be submitted by June 2, 2008.

DATES: Comments, identified by docket identification (ID) number EPA-HQ-OPPT-2007-0392, must be received on or before June 2, 2008.

ADDRESSES: Follow the detailed instructions as provided under ADDRESSES in the Federal Register document of January 16, 2008.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: David Schutz, Chemical Control Division (7405M), Office of Pollution Prevention and Toxics, Environmental Protection Agency, 1200 Pennsylvania Ave., NW., Washington, DC 20460-0001; telephone number: (202) 564-9262; e-mail address: schutz.david@epa.gov.

SUPPLEMENTARY INFORMATION: This document reopens the public comment period established in a proposed clarification document published in the Federal Register issue of January 16, 2008 (73 FR 2854) (FRL-8131-8). In that document, EPA proposed a clarification under which activated phosphors that are not on the TSCA section 8(b) Chemical Substance Inventory (TSCA Inventory) would be considered to be new chemical substances under TSCA section 5, and thus would be subject to the notification requirements under TSCA section 5(a) new chemical notification requirements. EPA is hereby reopening the comment period for 30 days, allowing additional comments to be submitted by June 2, 2008.

To submit comments, or access the public docket, please follow the detailed instructions as provided under ADDRESSES in the January 16, 2008 Federal Register document. If you have questions, consult the technical person listed under FOR FURTHER INFORMATION CONTACT.

List of Subjects 40 CFR Parts 704, 720, 721, and 723

Environmental protection, Chemicals, Electric lighting industry, Hazardous substances, Reporting and recordkeeping requirements.

Dated: April 24, 2008.
James B. Gulliford,
Assistant Administrator, Office of Prevention, Pesticides and Toxic Substances.

[FR Doc. E8-9740 Filed 5-1-08; 8:45 am]

BILLING CODE 6560-50-S